DEPARTMENT OF THE INTERIOR

Bureau of Land Management

[WY-030-2000-1060-JJ]

Notice of Intent to Remove Stray Wild Horses

SUMMARY: The Wild, Free Roaming Horse and Burro Act (Pub. L. 92-95) requires that, among other things, horses that exceed the Appropriate Management Levels (AMLs) established for them or stray from designated Herd Management Areas (HMAs) be removed. In order to accomplish that, the Rawlins and Lander Field Offices of the Bureau of Land Management plan to remove 500-600 excess and stray horses from three contiguous areas of the Rawlins and Lander Field Offices known as the Lost Creek HMA, an area designated as I-80 North, and the Antelope Hills HMA. The horses in I-80 North have strayed from the nearby Stewart Creek and Lost Creek HMAs over a period of time. The area known as I-80 North contains a large (greater than 50%) percentage of private land. The removal is scheduled to begin after September 30, 2000, and conclude prior to January 1, 2001. The Appropriate Management Level for these three contiguous areas is 140. At least 140 horses will remain in the area after the removal is completed.

Wild Horse populations in the nearby Stewart Creek, Green Mountain, and Crooks Mountain HMAs will not be directly affected by this removal and will remain above the AMLs established for them.

Numbers presented are approximate and will be finalized by a supplemental census to be conducted during August/September 2000 in the removal area and other, nearby HMAs.

A detailed Gather Plan, Environmental Analysis (EA), and Record of Decision for this removal are available on request from: Chuck Reed, Resource Advisor, P.O. Box 2047, Rawlins, Wyoming 82301; (307) 328-4213; or email: Chuck_Reed@blm.gov.

These documents are also available for review on the Wyoming BLM homepage at www.wy.blm.gov.

This removal action represents continued implementation of decisions previously communicated through Decision Records WY-037-EA4-121/122, dated July 11, 1994; WY-030-EA0-038 dated January 10, 2000; and WY-030-EA0-037 dated February 25, 2000.

FOR FURTHER INFORMATION CONTACT: For further information please contact the Bureau of Land Management, Rawlins Field Office, 1300 North Third Street, P.O. Box 2407, Rawlins, WY 82301, (307) 328-4200.

Kurt J. Kotter,
Field Manager.

[FR Doc. 00-15609 Filed 6-20-00; 8:45 am]

BILLING CODE 4310-22-P